DEPARTMENT OF DEFENSE

Department of the Army

Performance Review Board Membership

AGENCY: Department of the Army, DoD.

ACTION: Notice.

SUMMARY: Notice is given of the names of members of a Performance Review Board for the Department of the Army.

DATES: Applicable November 13, 2023.

FOR FURTHER INFORMATION CONTACT: Barbara Smith, Civilian Senior Leader Management Office, 111 Army Pentagon, Washington, DC 20310-0111, email: Barbara.M.Smith.civ@army.mil or phone: (703) 693-1126.

SUPPLEMENTARY INFORMATION: Section 4314(c)(1) through (5) of title 5, U.S.C., requires each agency to establish, in accordance with regulations, one or more Senior Executive Service performance review boards. The boards shall review and evaluate the initial appraisal of senior executives' performance by supervisors and make recommendations to the appointing authority or rating official relative to the performance of these executives.

The Department of the Army Performance Review Board will be composed of a subset of the following individuals:

1. Ms. Elizabeth J Ahlersmeyer O'Kane, Senior Security Advisor, Office of the Deputy Chief of Staff, G-2

2. Dr. Christine T Altendorf, Director of Military Programs, Military Programs, U.S. Army Corps of Engineers

3. Mr. Stephen D Austin, Assistant Chief of the Army Reserve, Office of the Chief of the Army Reserve

4. Mr. Mark F Averill, Administrative Assistant to the Secretary of the Army, Office of the Administrative Assistant to the Secretary of the Army

5. Mr. Young J Bang, Principal Deputy Assistant Secretary of the Army (Acquisitions, Logistics and Technology), Office of the Assistant Secretary of the Army (Acquisition, Logistics, and Technology)

6. LTG Maria B Barrett, Commanding General, U.S. Army Cyber Command

7. Mr. Stephen G Barth, Deputy Chief of Staff, G-8, U.S. Army Training and Doctrine Command

8. Mr. Peter Bechtel, Deputy G-3/5/7, Deputy Chief of Staff, G-3/5/7

9. BG Christine A Beeler, Commanding General, U.S. Army Contracting Command, U.S. Army Materiel Command

10. Ms. Pamela I Blechinger, Director, The Research and Analysis Center, The Research and Analysis Center, U.S. Army Futures Command

11. Ms. Yvette K W Bourcicot, Principal Deputy Assistant Secretary of the Army (Manpower and Reserve Affairs), Office of the Assistant Secretary of the Army (Manpower and Reserve Affairs)

12. Mr. John M Bradsher, Director, Operations and Integration, Office of the Deputy Chief of Staff, G-2

13. MG Michele H Bredenkamp, Commanding General, U.S. Army Intelligence and Security Command

14. GEN Gary M Brito, Commanding General, U.S. Army Training and Doctrine Command

15. MG Timothy D Brown, Special Assistant to the Deputy Chief of Staff, G-2, Office of the Deputy Chief of Staff, G-2

16. MG Edmond Miles Brown, Chief of Staff, U.S. Army Futures Command

17. Ms. Kimberly Diane Buehler, Director, Small Business Programs, Army Office of Small Business Programs

18. HON Douglas R Bush, Assistant Secretary of the Army (Acquisition, Logistics and Technology), Office of the Assistant Secretary of the Army (Acquisition, Logistics and Technology)

19. Mr. Michael K Cadieux, Director, Ground Vehicle Systems Center, U.S. Army Combat Capabilities Development Command, U.S. Army Futures Command

20. LTG Paul T Calvert, Deputy Commanding General/Chief of Staff, U.S. Army Forces Command

21. GEN Christopher G Cavoli, Commander, United States European Command and Supreme Allied Commander, Europe, U.S. European Command

22. MG Kimberly M Colloton, Deputy Commanding General for Military and International Operations, U.S. Army Corps of Engineers

23. HON Michael L Connor, Assistant Secretary of the Army (Civil Works), Office of the Assistant Secretary of the Army (Civil Works)

24. Mr. Robert T Cook, Principal Deputy Assistant Secretary of the Army (Financial Management and Comptroller), Office of the Assistant Secretary of the Army (Financial Management and Comptroller)

25. Mr. Donald M Cook, Assistant Deputy Chief of Staff for Resource Management/Executive Director for Business, U.S. Army Materiel Command

26. Ms. Denise Council-Ross, Principal Deputy General Counsel

27. LTG Jody Daniels, Chief Army Reserves

28. Mr. Richard P De Fatta, Deputy to the Commander, SMDC/ARSTRAT, U.S. Army Space and Missile Defense Command

29. Mr. Paul Farnan, Principal Deputy Assistant Secretary of the Army (Installations, Energy and Environment), Office of the Assistant Secretary of the Army (Installations, Energy and Environment)

30. Mr. Mario A Diaz, Deputy Under Secretary of the Army, Office of the Deputy Under Secretary of the Army

31. Ms. Karen L Durham-Aguilera, Executive Director of the Army National Cemeteries Program, Army National Military Cemeteries

32. Dr. Elizabeth C Fleming, Regional Business Director (Mississippi Valley Division), Mississippi Valley Division, U.S. Army Corps of Engineers

33. Dr. Todd A Fore, Deputy Assistant Secretary of the Army (Civilian Personnel), Office of the Assistant Secretary of the Army (Manpower and Reserve Affairs)

34. Mr. Michael D Formica, Executive Deputy to the Commander, U.S. Army Training and Doctrine Command

35. Ms. Christina L Freese, Deputy Chief of Staff for Resource Management, U.S. Army Materiel Command

36. Dr. Karl E Friedl, Senior Research Scientist (Performance Physiology), U.S. Army Medical Research and Development Command, U.S. Army Futures Command

37. LTG Maria R Gervais, Deputy Commanding General/Chief of Staff, U.S. Army Training and Doctrine Command

38. Mr. Larry Gottardi, Director, Civilian Senior Leader Management Office

39. MG William H Graham, Deputy Chief of Engineers and Deputy Commanding General, U.S. Army Corps of Engineers

40. Mr. Ross R Guckert, Program Executive Officer—Enterprise Information Systems, Office of the Assistant Secretary of the Army (Acquisition, Logistics, and Technology)

41. MG Anthony R Hale, Assistant to the Director of the Army Staff, Office of the Director of the Army Staff

42. Dr. Barton H Halpern, Director, Extramural Research, Army Research Office, U.S. Army Futures Command

43. GEN Charles R Hamilton, Commanding General, U.S. Army Materiel Command

44. Mr. David A Horner, Director, Information Technology Laboratory, Engineer Research and Development Center, U.S. Army Corps of Engineers

45. LTG Heidi Hoyle, Acting Deputy Chief of Staff, G-4, Office of the Deputy Chief of Staff, G-4

46. HON Rachel Jacobson, Assistant Secretary of the Army (Installations, Energy and Environment), Office of the Assistant Secretary of the Army (Installations, Energy and Environment)

47. Ms. Laura N Jankovich, Director of Management/Vice Director of the Army Staff, Office of the Chief of Staff of the Army

48. Dr. Donna M Joyce, Senior Research Scientist (Protective Technologies), Aviation and Missile Center, U.S. Army Combat Capabilities Development Command, U.S. Army Futures Command

49. Mr. David T Kim, Director of Support, Force Modernization, U.S. Army Intelligence and Security Command

50. Mr. Daniel M Klippstein, Assistant Deputy Chief of Staff, G-9, Office of the Deputy Chief of Staff, G-9

51. Mr. Michael O Lacey, Deputy General Counsel (Operations and Personnel), Office of the General Counsel

52. Mr. Mark R Lewis, Special Assistant to the Under Secretary of the Army, Office of the Under Secretary of the Army

53. Mr. Stephen B Loftus, Deputy Assistant Secretary of the Army (Cost and Economics), Office of the Assistant Secretary of the Army (Financial Management and Comptroller)

54. Mr. Michael T Mahoney, Deputy Assistant Secretary of the Army (Army Review Boards), Office of the Assistant Secretary of the Army (Manpower and Reserve Affairs)

55. LTG Robert L Marion, Military Deputy/Director, Army Acquisition Corps, Office of the Assistant Secretary of the Army (Acquisition, Logistics and Technology)

56. Dr. David Markowitz, Deputy Chief Information Officer/Chief Data Officer and Analytics Officer, Office of the Chief Information Officer

57. LTG Donna W Martin, The Inspector General, Office of The Inspector General

58. Mr. Patrick H Mason, Deputy Assistant Secretary of the Army (Defense Exports and Cooperation), Office of the Assistant Secretary of the Army (Acquisition, Logistics, and Technology)

59. LTG Patrick E Matlock, Deputy Chief of Staff, G-3/5/7, Office of the Deputy Chief of Staff, G-3/5/7

60. Mr. David W May, Senior Cyber Intelligence Advisor, Cyber Center of Excellence, U.S. Army Training and Doctrine Command

61. Dr. Alexander T Miller, Senior Science and Technology Advisor, Office of the Deputy Chief of Staff, G-2

62. Mr. Bruce B Miller, The Auditor General, U.S. Army Audit Agency

63. Mr. William J Miller, Deputy to the Commanding General, U.S. Army Special Operations Command

64. Ms. Hong V Miller, Chief Human Capital Officer, U.S. Army Futures Command

65. Ms. Liz S Miranda, Deputy to the Commanding General, CECOM, U.S. Army Communications—Electronics Command, U.S. Army Materiel Command

66. Dr. Eric Moore, Deputy to the Commanding General, U.S. Army Combat Capabilities Development Command, U.S. Army Futures Command

67. Mr. William Nelson, Executive Deputy to the Commanding General, U.S. Army Futures Command

68. Mr. Donald Nitti, Deputy to the Commander, U.S. Army Aviation and Missile Command, U.S. Army Materiel Command

69. Mr. Levator Norsworthy, Jr., Deputy General Counsel (Acquisition)/Senior Deputy General Counsel, Office of the General Counsel

70. Ms. Karen Pane, Director of Human Resources, U.S. Army Corps of Engineers

71. LTG Erik Peterson, Deputy Chief of Staff, G-8, Office of the Deputy Chief of Staff, G-8

72. LTG Walter E. Piatt, Director of the Army Staff, Office of the Chief of Staff of the Army

73. Mr. Jamie Pinkham, Principal Deputy Assistant Secretary of the Army (Civil Works), Office of the Assistant Secretary of the Army (Civil Works)

74. GEN Andrew P Poppas, Commanding General, U.S. Army Forces Command

75. LTG Laura Potter, Deputy Chief of Staff, G-2, Office of the Deputy Chief of Staff, G-2

76. Ms. Diane Randon, Assistant Deputy Chief of Staff, G-2, Office of the Deputy Chief of Staff, G-2

77. HON Carrie F Ricci, General Counsel, Office of the General Counsel

78. Mr. J. Randall Robinson, Executive Deputy to the Commanding General, U.S. Army Installations Management Command

79. Ms. Dawn Rosarius, Principal Assistant for Acquisition, U.S. Army Medical Research and Development Command, U.S. Army Futures Command

80. Dr. Robert Sadowski, Senior Research Scientist (Robotics), U.S. Army Combat Capabilities Development Command, U.S. Army Futures Command

81. HON Agnes G Schaefer, Assistant Secretary of the Army (Manpower and Reserve Affairs), Office of the Assistant Secretary of the Army (Manpower and Reserve Affairs)

82. HON Caral E Spangler, Assistant Secretary of the Army (Financial Management and Comptroller), Office of the Assistant Secretary of the Army (Financial Management and Comptroller)

83. LTG Scott A Spellmon, Chief of Engineers, U.S. Army Corps of Engineers

84. LTG Douglas Stitt, Deputy Chief of Staff, G-1, Office of the Deputy Chief of Staff, G-1

85. Mr. Robin Swan, Director, Office of Enterprise Management

86. Mr. Douglas Tamilio, Director, CCDC Soldier Center, U.S. Army Combat Capabilities Development Command, U.S. Army Futures Command

87. LTG Kevin Vereen, Deputy Chief of Staff, G-9, Office of the Deputy Chief of Staff, G-9

88. Ms. Terry Watson, Director, Technology and Business Architecture Integration, Office of the Deputy Chief of Staff, G-1

89. Mr. Roy Wallace, Assistant Deputy Chief of Staff, G-1, Office of the Deputy Chief of Staff, G-1

90. Mr. Joseph Welch, Director, CCDC C5ISR Center, U.S. Army Combat Capabilities Development Command, U.S. Army Futures Command

91. Ms. Marion Whicker, Executive Deputy to the Commanding General, U.S. Army Materiel Command

92. Ms. Kathryn Yurkanin, Principal Deputy Chief of Legislative Liaison, Office of the Chief, Legislative Liaison

James W. Satterwhite, Jr.,
Army Federal Register Liaison Officer.

[FR Doc. 2023-26047 Filed 11-24-23; 8:45 am]

BILLING CODE 3711-02-P